DEPARTMENT OF AGRICULTURE

Forest Service

Cibola National Forest, Mount Taylor Ranger District, NM, La Jara Mesa Mine

AGENCY: Forest Service, USDA.

ACTION: Notice of Intent to prepare an environmental impact statement.

SUMMARY: Laramide Resources (USA) Inc. has submitted a Plan of Operations (the Plan) proposing to develop and conduct underground uranium mining operations on their mining claims on La Jara Mesa on the Mount Taylor Ranger District of the Cibola National Forest. La Jara Mesa is located approximately 10 miles northeast of the town of Grants in Cibola County, New Mexico. The mine portal facilities would be located on claims controlled by the applicant on national forest lands at the base of the La Jara Mesa at an elevation of 7,300 feet in the NE1/4, Section 15, T12N, R9W, NMPM. The mineralized zones that would be accessed from the portal are located in portions of Sections 1, 2, 11, 12, 13, and 14, T12N, R9W, NMPM. The escape shaft would be located on Forest Service administered lands on top of La Jara Mesa in Section 11, T12N, R9W, NMPM. The Cibola National Forest will prepare an environmental impact statement to assess the development of a uranium exploration and mining operation on the Mount Taylor Ranger District.

DATES: Comments concerning the scope of the analysis must be received by 30 days after the publication of the NOI. Public scoping open houses will be held during the scoping period in Grants and Gallup New Mexico. The schedule for the open houses is as follows: Wednesday, May 20, 2009 in Grants, New Mexico, from 6 p.m. to 9 p.m. at the Cibola County Convention Center and Thursday, May 21, 2009 in Gallup, New Mexico from 6 p.m. to 9 p.m. at the Gallup Community Service Center. Times and locations of these meetings will be announced by public notice and will be available on the Cibola National Forest Web site. The draft environmental impact statement is expected before the end of 2009 and the final environmental impact statement and Record of Decision (ROD) is expected in spring/summer, 2010.

ADDRESSES: Send written comments to Rodney Byers, Minerals Program Manager, Cibola National Forest, 2113 Osuna Road NE., Albuquerque, NM 87113.

FOR FURTHER INFORMATION CONTACT: For further information, mail correspondence to Rodney Byers, Minerals Program Manager, Cibola National Forest, 2113 Osuna Road NE., Albuquerque, NM 87113.

Individuals who use telecommunication devices for the deaf (TDD) may call the Federal Information Relay Service (FIRS) at 1-800-877-8339 between 8 a.m. and 8 p.m., Eastern Time, Monday through Friday.

SUPPLEMENTARY INFORMATION:

Purpose and Need for Action

Laramide Resources (USA), Inc. has submitted a Plan of Operations for development of a uranium mine at the La Jara Mesa property. The purpose of the EIS is to evaluate the environmental impacts of the proposed Plan of Operations and determine whether to approve the Plan as proposed or to require additional mitigation measures to protect the environment (in accordance with Forest Service regulations for locatable minerals).

The need for action is to allow Laramide Resources (USA), Inc. to exercise their rights under U.S. mining laws. Laramide Resources (USA), Inc. has a right to develop and remove the mineral resources as set forth by the General Mining Law of 1872 as amended. These laws provide that the public has a statutory right to conduct prospecting, exploration, development and production activities (1872 Mining Law and 1897 Organic Act), provided they are reasonably incident (1955 Multiple Use Mining Act and case law) to mining and comply with other Federal laws.

The Forest Service has the responsibility to protect surface resources. Mining regulations state that “operations shall be conducted so as, where feasible, to minimize adverse environmental effects on National Forest System surface resources (36 CFR 228.8)” provided such regulation does not endanger or materially interfere with prospecting, mining, or processing operations or reasonably incidental uses (1955 Multiple Use Mining Act and case law).

Laramide Resources (USA), Inc.'s need is to provide uranium ore for processing to meet national and international market demands for uranium on the open market. Such demand is created by a current need for uranium for nuclear power plant fuel to generate electricity or for commercial and other uses. The Forest Service has concluded that the underlying need for this mining activity is to provide uranium for U.S. and world markets.

Proposed Action

The proposed action is an underground uranium mine consisting of a 15-16 acre footprint on the surface which will be comprised of waste rock, temporary ore storage, a new water line and electrical transmission line following the existing private and Forest roads to the site. The mine will include two adit portals and, after active mining is initiated, a vertical escape shaft to the top of the mesa to provide air circulation and an escape route in the event of an accident. The shaft opening and supporting power and equipment will lie inside a fenced area of approximately 0.1 acre. Additional facilities at the mine include a locked explosives storage shed, lighting, ventilation fans, one or more stormwater ponds, and a field office. The proposed federal action is to approve Laramide Resources (USA), Inc.'s Plan of Operations with mitigations needed to protect other non-mineral surface resources consistent with Forest Plan, regulations, and other applicable laws.

Possible Alternatives

1. No Action. 2. Approve the Plan as presented. 3. Approve the Plan as presented by Laramide Resources (USA), Inc., with stipulations necessary to protect the non-mineral resources of the area.

Responsible Official

Nancy Rose, Forest Supervisor, Cibola National Forest. 2113 Osuna Road NE., Albuquerque, NM 87113.

Nature of Decision To Be Made

The Forest Supervisor will use the EIS process to develop the necessary information to make an informed decision on whether or not to approve the proposed Plan as submitted, or to decide what additional mitigations are needed to protect other resources as provided for in 36 CFR 228.8.

Scoping Process

Scoping will include this NOI, listing in the Quarterly Schedule of Proposed Actions, letters to interested and affected individuals, agencies, and organizations, and legal notices, and the open houses in Grants and Gallup, New Mexico. Additional information about the project, schedule, permits and approvals, and opportunities for public involvement will be available at the open houses. The intent of scoping is to solicit comments on issues and alternatives that agencies and the public feel should be addressed in the EIS.

Preliminary Issues

One preliminary issue has been identified: the development of the La Jara Mesa Mine may affect the characteristics that make the Mount Taylor Traditional Cultural Property eligible for the National Register of Historic Places. Other issues may include groundwater contamination, natural resources, economics and health and safety issues.

Permits or Licenses Required

The approved Plan of Operations authorizes mining. Operations must be consistent with Forest Service Conditions of Approval, and other applicable laws and regulations, including state permits for mining in New Mexico.

Comment Requested

This notice of intent initiates the scoping process which guides the development of the environmental impact statement. Comments are solicited and are welcome for the 30 day comment period initiating on the publication date of this notice.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

Authority: 40 CFR 1501.7 and 1508.22; 36 CFR 220.4.

Dated: May 8, 2009.
Nancy Rose,
Forest Supervisor, Cibola National Forest.

[FR Doc. E9-11265 Filed 5-13-09; 8:45 am]

BILLING CODE 3410-11-P